DEPARTMENT OF ENERGY

Federal Energy Regulatory Commission

Docket No. CP08-13-000; Docket No. PF07-3-000

Floridian Natural Gas Storage Company, LLC; Notice of Application

November 8, 2007.

Take notice that on October 31, 2007, Floridian Natural Gas Storage Company, LLC (FGS), 1000 Louisiana Street, Suite 4361, Houston, Texas 77002, filed an abbreviated application pursuant to section 7(c) of the Natural Gas Act (NGA) and Parts 157 and 284 of the Commission's regulations, for a certificate of public convenience and necessity to construct and operate the Floridian Natural Gas Storage Project in Martin County, Florida; a blanket certificate to perform certain routine activities and operations; and a blanket certificate to provide open access storage services, all as more fully set forth in the application. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

FGS requests authorization to: (1) Construct, operate a natural gas storage facility in Martin County, Florida; (2) a blanket certificate pursuant to Subpart G of Part 284 that will permit FGS to provide open-access firm and interruptible natural gas storage services on behalf of others in interstate commerce; (3) a blanket certificate pursuant to Subpart F Part 157 that will permit FGS to perform certain routine activities and operations; (4) authorization to provide the proposed storage services at market-based rates; and (5) approval of a pro forma FERC Gas Tariff, under which FGS will provide open-access gas storage services in interstate commerce.

FGS states that the project would be located on approximately 145 acres at the site of the former Florida Steel manufacturing facility, about two miles north of Indiantown in Martin County, Florida. FGS states that the project would include the initial construction of one nominal 190,000 m³ liquified natural gas storage tank, liquefaction systems, vaporization systems and two parallel pipelines, one to receive gas and one to send out gas, both approximately four miles in length, that would connect the facility with the regional gas infrastructure, via an interconnection with Gulfstream Natural Gas System, L.L.C. and the Florida Power and Light Company 20-inch lateral that connects to Florida Gas Transmission Company's mainline system.

FGS proposes to construct the project in two phases. It is stated that upon planned commercial operation in late May 2011, Phase I of the project would make available liquefied natural gas storage capacity of 4 Bcf, with a design sendout capacity of 400 MMscf/d and a design liquefaction rate of 50 MMscf/d. It is stated that Phase 2 of the project would involve the construction of a second, identical storage tank and additional liquefaction and vaporization capacity and commercial operation is anticipated no later than March 2016, but may be advanced to such earlier date as the market may require.

FGS requests that the Commission waive the requirements of (i) section 284.7(d)—the segmentation requirement; (ii) section 284.7(e) and 284.10 which impose requirements relating to the design of rates that are not applicable to market-based rates; (iii) section 260.2 and Part 201 concerning accounting and reporting requirements which are appropriate for a cost-of-service rate structure; (iv) partial waiver of section 284.12(a)(1)(iv) to the extent it requires compliance with the electronic data interchange standards established by NAESB; (v) exemption from Order Nos. 587-G and 587-L regarding the netting and trading of imbalances; (vi) the requirements of Part 358 concerning Standards of Conduct for transmission providers; and (vii) the “shipper must have title” policy for off-system capacity. In addition, FGS requests that the Commission waive the requirement to file Exhibits K, L, N and O because FGS is seeking authority to charge market-based rates, and Exhibit H because FGS's customers are responsible for their own gas. Also, FGS requests that the Commission waive the requirements of section 157.6(b)(8) and 157.20(c)(3) for projected cost-of-service data in advance of a Commission determination of appropriate rate treatment and updated cost data after new facilities are placed in service; and section 157.6(a)(3)(i) concerning the filing of certain exhibits in electronic format.

Any initial questions regarding FGS's proposal in this application should be directed to Joan M. Darby, Dickstein Shapiro LLP, 1825 Eye Street, NW., Washington, DC 20006, telephone: (202) 420-2200 or e-mail: darby@dicksteinshapiro.com or J. Bradley Williams, Floridian Natural Gas Storage Company, LLC, 1000 Louisiana Street, Suite 4361, Houston, Texas 77002, telephone: (800) 621-6843.

On January 10, 2007, the Commission staff granted FGS's request to utilize the National Environmental Policy Act (NEPA) Pre-Filing Process and assigned Docket No. PF07-3-000 to staff activities involving the project. Now, as of the filing of this application on October 31, 2007, the NEPA Pre-Filing Process for this project has ended. From this time forward, this proceeding will be conducted in Docket No. CP08-13-000, as noted in the caption of this notice.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission encourages electronic submission of protests and interventions in lieu of paper using the “eFiling” link at http://www.ferc.gov. Persons unable to file electronically should submit the original and 14 copies of the protest or intervention to the Federal Energy Regulatory Commission, 888 First Street, NE., Washington, DC 20426.

Comment Date: November 29, 2007.

Kimberly D. Bose,
Secretary.

[FR Doc. E7-22402 Filed 11-15-07; 8:45 am]

BILLING CODE 6717-01-P